DEPARTMENT OF JUSTICE

[OMB Number 1140-0010]

Agency Information Collection Activities; Proposed eCollection eComments Requested; Title—Application To Transport Interstate or To Temporarily Export Certain NFA Firearms—ATF Form 5320.20

AGENCY: Bureau of Alcohol, Tobacco, Firearms, and Explosives; Department of Justice.

ACTION: 30-Day notice.

SUMMARY: The Department of Justice (DOJ), Bureau of Alcohol, Tobacco, Firearms, and Explosives (ATF), will be submitting the following information collection request to the Office of Management and Budget (OMB) for review and approval in accordance with the Paperwork Reduction Act of 1995

DATES: ATF encourages comments on this information collection. You may submit written comments for 30 days, until midnight on March 2, 2026.

ADDRESSES: Submit written comments and recommendations for this information collection to the following website: www.reginfo.gov/public/do/ PRAMain. Find this particular information collection by selecting “Currently under 30-day Review—Open for Public Comments” or by using the search function and entering either the title of the information collection or the OMB control number: 1140-0010.

FOR FURTHER INFORMATION CONTACT: If you have questions, or need a copy of the proposed information collection instrument with instructions or additional information, please contact: Meghan Tisserand, either by mail at National Firearms Act Division; Division Staff Office; 244 Needy Road; Martinsburg, WV 25405, by email at Meghan.tisserand@atf.gov, or by telephone at 304-616-3219.

SUPPLEMENTARY INFORMATION: . The proposed information collection was previously published in the Federal Register, 90 FR 54761, on Friday, November 28, 2025, allowing a 60-day comment period. We encourage written comments and suggestions from the public and affected agencies concerning the proposed information collection. Your comments should address one or more of the following four points:

—Evaluate whether the proposed information collection is necessary to properly perform the identified functions of the Bureau, including whether the information will have practical utility;

—Evaluate the accuracy of the agency's estimate of the proposed information collection's burden, including the validity of the methodology and assumptions used;

—Evaluate whether, and if so how, the agency can enhance the quality, utility, and clarity of the information being collected; and

—Minimize the information collection's burden on those who are to respond, including through the use of appropriate automated, electronic, mechanical, or other technological collection techniques or other forms of information technology, e.g., permitting responses to be submitted electronically.

You may view this information collection request at www.reginfo.gov. Follow the instructions to view Department of Justice information collections currently under review by OMB and look for 1140-0010.

DOJ seeks PRA authorization for this information collection for three years. OMB authorization for an ICR cannot be for more than three years without renewal. DOJ notes that information collection requirements submitted to OMB for existing ICRs receive a month-to-month extension while they undergo review.

Overview of This Information Collection

1. Type of information collection: Revising a previously approved collection.

2. Title of the form/collection: Application to Transport Interstate or to Temporarily Export Certain NFA Firearms.

3. Agency form number, if any, and the applicable component of the Department of Justice sponsoring the collection: ATF Form 5320.20.

Component: Bureau of Alcohol, Tobacco, Firearms, and Explosives; U.S. Department of Justice.

4. Affected public who will be asked or required to respond, as well as a brief abstract: Affected public: federal government; state, local, and tribal governments; individuals or households; private sector for-profit institutions.

Abstract: Persons who wish to transport certain NFA firearms (machine guns, short-barreled rifles, short-barreled shotguns, or destructive devices) out of the state in which they registered the firearm, for certain temporary or permanent domestic purposes or for temporary export, must submit Form 20 to ATF before they may transport the items. 18 U.S.C. 922(a)(4), 27 CFR 478.28.

5. Obligation to respond: voluntary and required to obtain or retain benefits.

6. Total estimated number of respondents: 12,878 respondents.

7. Estimated time per respondent: 0.167 hours.

8. Frequency: Once annually.

9. Total estimated annual time burden: 2,151 total hours.

10. Total estimated annual other costs burden: $0.

Revisions to This Information Collection

Information Collection (IC) OMB 1140-0010 is being revised to make it electronically fillable, enabling it to be submitted by email. ATF has also made the second copy automatically auto-fill. Additionally, ATF will have included this form on its eForms platform online by the time this ICR completes the renewal process, all of which results in full electronic submission. Other edits to this form include changes to make it easier to read along with a slight title revision to clarify the types of transportation covered. There has also been a decrease in respondents, resulting in a decrease in total annual burden hours, and a consequential decrease in the monetized time value for this information collection request (ICR).

Public Comments

ATF received 53 comments on this information collection. Four commenters supported the proposed changes, noting that electronic submission would reduce the public's time burden. The majority of the remaining comments revolved around respondents' desire to abolish the notification requirement entirely for all lawful owners. Additionally, they stated that although a digital process “is an improvement over paper, the requirement to file Form 5320.20 violates the Second Amendment and the right to travel.” One respondent wrote that the AG should acknowledge the unconstitutional nature of the current process and “order the ATF not to enforce the rule, pardon anyone who had been convicted under these rules, and, in lieu of a court ruling, issue a second document signed by the AG authorizing blanket approval for any individual lawfully possessing an NFA item to cross state lines with it `for all lawful purposes' with no expiration and no form required.”

Another comment focused on ways to reduce burden on both the public and agency. The commenter suggested possibly “limiting the ATF Form 20 submission and approval requirement only to scenarios involving the permanent transport of an item across state lines or involving the temporary export of the item outside of the United States.” If the agency determines that it “cannot completely eliminate the Form 20 requirement for interstate transports,” the commenter asked that “ATF consider the option of converting the ATF Form 20 submission in these instances (and potentially others) to a notification-only process, eliminating the requirement for owners to wait for approval prior to transportation.”

ATF appreciates the feedback from these commenters on the proposed changes. It is helpful to receive feedback, positive or negative, from persons impacted by our processes so we can make them more user-friendly and efficient. In response to the four commenters who voiced their support for offering a digital submission option, we believe the following information will be helpful. In addition to allowing electronic signatures, ATF is also making its NFA forms electronically fillable as the ICRs come up for renewal, and it expects to move to solely electronic forms over the next year. The proposed changes to these forms reflect larger revisions the agency has been making to its NFA processes and other NFA forms.

ATF is not aware of a court that has held that the approval process under 18 U.S.C 922(a)(4) violates the Second Amendment and an individual's right to travel with National Firearms Act firearms. However, ATF is currently reviewing the approval process for NFA firearm transport requests to propose ways to relieve potential administrative burdens in that request process for an individual to travel with a NFA firearm. Among ATF's considerations are options similar to those suggested by the commenters.

If you need additional information, contact: Darwin Arceo, Department Clearance Officer, Enterprise Portfolio Management, Justice Management Division; United States Department of Justice; Two Constitution Square, 145 N Street NE, 4W-218, Washington, DC 20530.

Dated: January 28, 2026.
Darwin Arceo,
Department Clearance Officer for PRA, U.S. Department of Justice.

[FR Doc. 2026-01858 Filed 1-29-26; 8:45 am]

BILLING CODE 4410-FY-P